DEPARTMENT OF THE TREASURY

Submission for OMB Review; Comment Request

September 5, 2007.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before October 11, 2007 to be assured of consideration.

Federal Consulting Group

OMB Number: 1505-0200.

Type of Review: Extension.

Title: Terrorism Risk Insurance Program Loss Reporting.

Forms: TRIP 01, TRIP 02.

Description: Information collection made necessary by the Terrorism Risk Insurance Act of 2002, as amended by the Terrorism Risk Insurance Extension Act of 2005, and by Treasury implementing regulations to pay Federal share to commercial property and casualty insurers for terrorism losses.

Respondents: Business and other for-profit institutions.

Estimated Total Reporting Burden: 4,200 hours.

Clearance Officer: Howard Leiken, (202) 622-7139, Department of the Treasury, 1425 New York Avenue, NW., Room 2113, Washington, DC 20220.

OMB Reviewer: Alexander T. Hunt (202) 395-7316, Office of Management and Budget, Room 10235, New Executive Office Building, Washington, DC 20503.

Robert Dahl,
Treasury PRA Clearance Officer.

[FR Doc. E7-17862 Filed 9-10-07; 8:45 am]

BILLING CODE 4811-37-P